DEPARTMENT OF AGRICULTURE

Rural Utilities Service

7 CFR Part 1776

RIN 0572-AC12

Amending the Household Water Well System Grant Program Regulations

AGENCY: Rural Utilities Service, USDA.

ACTION: Direct final rule.

SUMMARY: The Rural Utilities Service (RUS), an agency delivering the United States Department of Agriculture's (USDA) Rural Development Utilities Programs, hereinafter referred to as Rural Development or the Agency, is amending its regulations to administer the Household Water Well System Grant Program. This action implements provisions of the 2008 Farm Bill for limits on loans that nonprofit organizations may make to homeowners for private well systems. The 2008 Farm Bill raises the loan limit to $11,000 from $8,000. The intended effect is to make part 1776 current with statutory authority. The Agency will also amend the regulation to enable existing grant recipients to amend their grant agreements for the new $11,000 loan limit. No adverse comments are expected.

DATES: This rule will become effective January 2, 2009 unless the Agency receives written adverse comments or a written notice of intent to submit adverse comments on or before December 18, 2008. If we receive adverse comments or notices, the Agency will publish a timely document in the Federal Register withdrawing the rule. Comments received will be considered under the proposed rule published in this edition of the Federal Register in the proposed rule section. A second public comment period will not be held. Written comments must be received by the Agency or carry a postmark or equivalent no later than December 18, 2008.

ADDRESSES: Submit adverse comments or notice of intent to submit adverse comments by any of the following methods:

• Federal eRulemaking Portal: Go to http://www.regulations.gov. In the “Search Documents” box, enter RUS-08-WATER-03, check the box under the Search box labeled “Select to find documents accepting comments or submissions,” and click on the GO>> key. To submit a comment, choose “Send a comment or submission,” under the Docket Title. In order to submit your comment, the information requested on the “Public Comment and Submission Form,” must be completed. (If you click on the hyperlink of the docket when the search returns it, you will see the docket details. Click on the yellow balloon to receive the “Public Comment and Submission Form.”) Information on using Regulations.gov, including instructions for accessing documents, submitting comments, and viewing the docket after the close of the comment period, is available through the site's “How to Use this Site” link.

• Postal Mail/Commercial Delivery: Please send your comment addressed to Michele Brooks, Director, Program Development and Regulatory Analysis, USDA Rural Development, STOP 1522, Room 5159, 1400 Independence Avenue, SW., Washington, DC 20250-1522. Please state that your comment refers to Docket No. RUS 08-WATER-03.

Other Information: Additional information about Rural Development and its programs is available at http://www.rurdev.usda.gov/index.html.

FOR FURTHER INFORMATION CONTACT: Cheryl Francis, Loan Specialist, Water and Environmental Programs, USDA Rural Development, 1400 Independence Avenue, STOP 1570, Room 2229 South Building, Washington, DC 20250-1570. Telephone: (202) 720-9589; Fax: (202) 690-0649; e-mail: cheryl.francis@wdc.usda.gov.

SUPPLEMENTARY INFORMATION:

Executive Order 12866

This rule has been determined to be not significant for purposes of Executive Order 12866 and, therefore has not been reviewed by the Office of Management and Budget (OMB).

Executive Order 12372

The program is not subject to the provisions of Executive Order 12372, “Intergovernmental Consultation,” as implemented under USDA's regulations at 7 CFR part 3015.

Executive Order 12988

This rule has been reviewed under Executive Order 12988, Civil Justice Reform. The Agency has determined that this rule meets the applicable standards provided in section 3 of the Executive Order. In addition, all state and local laws and regulations that are in conflict with this rule will be preempted; no retroactive effect will be given to the rule; and in accordance with section 212(e) of the Department of Agriculture Reorganization Act of 1994, [7 U.S.C. 6912(e)], administrative appeal procedures, if any, must be exhausted before litigation against the Department or its agencies may be initiated.

Executive Order 13132, Federalism

This rule will not have any substantial direct effect on states, on the relationship between the national government and the states, or on the distribution of power and responsibilities among the various levels of government. Therefore, consultation with states is not required.

Regulatory Flexibility Act Certification

The Agency certifies that this rule will not have a significant economic impact on a substantial number of small entities, as defined in the Regulatory Flexibility Act, 5 U.S.C. 605(b); therefore, no further analysis is required. The amendments reflect only statutory changes that Congress has mandated and over which the Agency has no discretion. They also involve minimal procedural matters on other agreements already negotiated.

Information Collection and Recordkeeping Requirements

This rule contains no new reporting or recordkeeping burdens under Office of Management and Budget (OMB) control number 0572-0139 that would require approval under the Paperwork Reduction Act of 1995 (44 U.S.C. Chapter 35).

National Environmental Policy Act Certification

This final rule has been examined under Agency environmental regulations at 7 CFR part 1794. The Administrator has determined that this rule is not a major Federal action significantly affecting the environment. Therefore, in accordance with the National Environmental Policy Act of 1969 (42 U.S.C. 4321 et seq.), an Environmental Impact Statement or Assessment is not required.

Catalog of Federal Domestic Assistance

The Catalog of Federal Domestic Assistance (CFDA) number assigned to the water and waste loan and grant program is 10.862, Water and Waste Disposal Systems for Rural Communities. The Catalog is available on the Internet and the General Services Administration's (GSA) free CFDA Web site at http://www.cfda.gov. The CFDA Web site also contains a PDF file version of the Catalog that, when printed, has the same layout as the printed document that the Government Printing Office (GPO) provides. GPO prints and sells the CFDA to interested buyers. For information about purchasing the Catalog of Federal Domestic Assistance from GPO, call the Superintendent of Documents at 202-512-1800 or toll free at 866-512-1800, or access GPO's on-line bookstore at http://bookstore.gpo.gov.

Unfunded Mandates

This rule contains no Federal mandates (under the regulatory provisions of Title II of the Unfunded Mandates Reform Act of 1995) for State, local, and tribal governments or the private sector. Thus, this rule is not subject to the requirements of sections 202 and 205 of the Unfunded Mandates Reform Act of 1995.

E-Government Act Compliance

The Agency is committed to complying with the E-Government Act, to promote the use of the Internet and other information technologies to provide increased opportunities for citizen access to Government information and services, and for other purposes.

Background

The Household Water Well System (HWWS) Grant Program is authorized by Section 306E of the Consolidated Farm and Rural Development Act (CONACT) (7 U.S.C. 1926e), as amended. The program provides grants to qualified private non-profit organizations which help homeowners finance the cost of private wells. As the grant recipient, a non-profit organization establishes a revolving loan fund lending program to provide water well loans up to $8,000 to individuals who own or will own private wells in rural areas. The individual loan recipients may use the funds to construct, refurbish, and service their household well systems for an existing home.

The Food, Conservation and Energy Act of 2008, Public Law 110-246 (Farm Bill) amends Section 306E of the CONACT (7 U.S.C. 1926e) to raise the limit for loans made to individual homeowners to $11,000. The loan limit increase will allow homeowners to obtain financial assistance for well repairs and improvements in areas where the construction costs for wells routinely exceed $8,000.

Regulation 7 CFR 1776 is used to administer grants made to private non-profit organizations under the HWWS program. There will be two amendments to the regulation. Section 1776.10 will be amended to insert language providing for an amendment to a grant agreement. This amendment will provide for a process to allow current grant recipients to increase their loan limit to $11,000. Also, Section 1776.15, section (a)(3) will be amended to replace $8,000 with $11,000, the maximum amount grantees may make to homeowners.

The Section 1776.10 amendment will provide a process for the Agency to approve an increase in the loan limit for existing grant agreements. The Section 1776.15(a)(3) amendment to the household water well regulation will bring the regulation into conformance with the Farm Bill's provision. The increase in the loan limit will allow for the grantees to meet the expected costs in providing the needed homeowner well system improvements. The proposed amendments will have no financial impact on the public or the Agency. These amendments are not published for proposed rulemaking because they merely reflect changes in statutory authority enacted by the Farm Bill of 2008 and make only minor technical corrections to the regulations, which do not involve matters of agency discretion. Notice and public comment, therefore, are impractical, unnecessary, and contrary to the public interest.

List of Subjects in 7 CFR Part 1776

Agriculture, Community development, Community facilities, Credit, Grant programs—housing and community development, Nonprofit organizations, Reporting and recordkeeping requirements, Rural areas, Waste treatment and disposal, Water pollution control, Water resources, Water supply, Watersheds.

For reasons set forth in the preamble, chapter XVII of title 7 of the Code of Federal Regulations is amended as follows:

PART 1776—HOUSEHOLD WATER WELL SYSTEM GRANT PROGRAM

1. The authority citation for part 1776 continues to read as follows:

Authority: 7 U.S.C. 1926e.

Subpart B—HWWS Grants

2. Section 1776.10 is revised to read as follows:

§ 1776.10 Grant agreement.

(a) RUS and the grantee will enter into an agreement setting forth the terms and conditions governing a particular HWWS grant award. RUS will furnish the form of grant agreement. No funds awarded under this part shall be disbursed to the grant recipient before the grant agreement is binding and RUS has received a fully executed counterpart of the grant agreement.

(b) The grantee or RUS may initiate an amendment or modification to the grant agreement to provide for a loan limit up to $11,000. No change in the grant agreement requested by the grant recipient will be effective unless approved in writing by RUS.

Subpart C—HWWS Loans

3. In § 1776.15, revise paragraph (a)(3) to read as follows:

§ 1776.15 Terms of loans.

(a) * * *

(3) Shall not exceed $11,000 for each household water well system.

* * * * *

Dated: November 10, 2008.
James M. Andrew,
Administrator, Rural Utilities Service.

[FR Doc. E8-26769 Filed 11-17-08; 8:45 am]

BILLING CODE 3410-15-P